DEPARTMENT OF TRANSPORTATION

Federal Aviation Administration

14 CFR Part 39

[Docket No. FAA-2018-0806; Product Identifier 2018-NM-056-AD; Amendment 39-19590; AD 2019-05-08]

RIN 2120-AA64

Airworthiness Directives; Airbus SAS Airplanes

AGENCY: Federal Aviation Administration (FAA), Department of Transportation (DOT).

ACTION: Final rule.

SUMMARY: We are superseding Airworthiness Directive (AD) 2015-12-08, which applied to all Airbus SAS Model A318 and A319 series airplanes and all Model A320-211, A320-212, A320-214, A320-231, A320-232, A320-233, A321-111, A321-112, A321-131, A321-211, A321-212, A321-213, A321-231, and A321-232 airplanes. AD 2015-12-08 required an inspection to determine the batch number or installation date of the oxygen pipe assembly that is installed at the end of the right-hand crew distribution line, and replacement of the pipe if necessary. This AD revises the applicability to include additional airplane models and additional pipes to be replaced if necessary. This AD was prompted by further investigation that determined that affected oxygen pipes may have been installed on more airplanes than initially identified. We are issuing this AD to address the unsafe condition on these products.

DATES: This AD is effective April 16, 2019.

The Director of the Federal Register approved the incorporation by reference of a certain publication listed in this AD as of April 16, 2019.

The Director of the Federal Register approved the incorporation by reference of a certain other publication listed in this AD as of July 21, 2015 (80 FR 34262, June 16, 2015).

ADDRESSES: For service information identified in this final rule, contact Airbus SAS, Airworthiness Office—EIAS, Rond-Point Emile Dewoitine No: 2, 31700 Blagnac Cedex, France; telephone +33 5 61 93 36 96; fax +33 5 61 93 44 51; email account.airworth-eas@airbus.com; internet http://www.airbus.com. You may view this referenced service information at the FAA, Transport Standards Branch, 2200 South 216th St., Des Moines, WA. For information on the availability of this material at the FAA, call 206-231-3195. It is also available on the internet at http://www.regulations.gov by searching for and locating Docket No. FAA-2018-0806.

Examining the AD Docket

You may examine the AD docket on the internet at http://www.regulations.gov by searching for and locating Docket No. FAA-2018-0806; or in person at Docket Operations between 9 a.m. and 5 p.m., Monday through Friday, except Federal holidays. The AD docket contains this final rule, the regulatory evaluation, any comments received, and other information. The address for Docket Operations (phone: 800-647-5527) is U.S. Department of Transportation, Docket Operations, M-30, West Building Ground Floor, Room W12-140, 1200 New Jersey Avenue SE, Washington, DC 20590.

FOR FURTHER INFORMATION CONTACT: Sanjay Ralhan, Aerospace Engineer, International Section, Transport Standards Branch, FAA, 2200 South 216th St., Des Moines, WA 98198; telephone and fax 206-231-3223.

SUPPLEMENTARY INFORMATION:

Discussion

We issued a notice of proposed rulemaking (NPRM) to amend 14 CFR part 39 to supersede AD 2015-12-08, Amendment 39-18182 (80 FR 34262, June 16, 2015) (“AD 2015-12-08”). AD 2015-12-08 applied to all Airbus SAS Model A318-111, A318-112, A318-121, A318-122, A319-111, A319-112, A319-113, A319-114, A319-115, A319-131, A319-132, A319-133, A320-211, A320-212, A320-214, A320-231, A320-232, A320-233, A321-111, A320-112, A320-131, A320-211, A320-212, A320-213, A320-231, and A320-232 airplanes. The NPRM published in the Federal Register on October 4, 2018 (83 FR 50047). The NPRM was prompted by further investigation that determined that affected oxygen pipes may have been installed on more airplanes than initially identified. The NPRM proposed to revise the applicability to include additional airplane models and additional pipes to be replaced if necessary. We are issuing this AD to address corrosion of the oxygen pipe assemblies, which could lead to blocked or reduced oxygen supply to a flight crew member in case of decompression or smoke/fire in the flight deck. In addition, the presence of particles in oxygen lines, under certain conditions, increases the risk of fire in the flight deck.

The European Aviation Safety Agency (EASA), which is the Technical Agent for the Member States of the European Union, has issued EASA AD 2018-0060R1, dated July 19, 2018 (referred to after this as the Mandatory Continuing Airworthiness Information, or “the MCAI”), to correct an unsafe condition for all Airbus SAS Model A318 and A319 series airplanes; all Model A320-211, A320-212, A320-214, A320-216, A320-231, A320-232, A320-233, A321-111, A321-112, A321-131, A321-211, A321-212, A321-213, A321-231, and A321-232 airplanes; and certain Model A320-251N, A320-271N, and A321-271N airplanes. The MCAI states:

Some oxygen pipe assemblies were found corroded during manufacturing at supplier level. The affected pipe assembly was installed at the end of the right hand (RH) crew distribution line, just upstream of the First Officer and RH Observer oxygen mask boxes.

The investigation showed that the affected pipes had been heat treated just 4 weeks before the summer factory closure and were only cleaned after re-opening of the factory. During this interruption, corrosion developed in these pipes.

This condition, if not detected and corrected, could lead to blocked or reduced oxygen supply to a flight crew member in case of decompression or smoke/fire in the cockpit. In addition, the presence of particles in oxygen lines, under certain conditions, increases the risk of fire in the cockpit.

The parts manufacturer identified the batch numbers of the potentially affected pipes that were manufactured in a specific period in 2011. Based on that information, Airbus identified the aeroplanes on which those pipes were installed on the production line and issued [service bulletin] SB A320-35-1069, containing instructions to remove the affected pipes from service.

Consequently, EASA issued AD 2013-0278 [which corresponds to FAA AD 2015-12-08] to require the identification and replacement of the affected oxygen pipes. That [EASA] AD also prohibited installation of any affected pipe on other aeroplanes.

After EASA AD 2013-0278 was issued, further investigation determined that affected oxygen pipes may have been installed on more aeroplanes than initially identified. Consequently, Airbus revised SB A320-35-1069 and EASA issued AD 2017-0150, retaining the requirements of EASA AD 2013-0278, which was superseded, and requiring the same actions on these additional aeroplanes.

After EASA AD 2017-0150 was issued, it was determined that five A320 and A321 NEO aeroplanes had been delivered with a configuration which potentially allows the installation of an affected oxygen pipe.

Consequently, EASA issued AD 2018-0060, retaining the requirements of EASA AD 2017-0150, which was superseded, expanding the Applicability to include the five A320 and A321 NEO aeroplanes, and correcting the Table in Appendix 1 by removing MSN [manufacturer serial number] 5091 which belongs to Group 2.

Since that AD was issued, several operator requests were received to clarify the required actions for Group 3 and Group 4 aeroplanes. It was determined that, as per Airbus configuration control, the EASA AD No.: 2018-0060R1 affected parts have been identified as being potentially installed in production only on Group 1 and Group 2 aeroplanes. However, it is possible that those parts migrated to other aeroplanes during maintenance; for that reason, Group 3 and 4 aeroplanes need to be considered. This [EASA] AD is revised accordingly.

You may examine the MCAI in the AD docket on the internet at http://www.regulations.gov by searching for and locating Docket No. FAA-2018-0806.

Comments

We gave the public the opportunity to participate in developing this final rule. The following presents the comments received on the NPRM and the FAA's response to each comment.

Support for the NPRM

Air Line Pilots Association, International (ALPA) stated its support for the NPRM.

Request To Add Airplanes to Paragraph (j) of the Proposed AD

American Airlines requested that additional airplanes be added to paragraph (j) of the proposed AD. American Airlines asserted that Airbus has identified additional airplanes, which are included in Revision 02, dated October 26, 2016; and Revision 03, dated December 8, 2017; of Airbus Service Bulletin A320-35-1069.

We disagree with the request to add airplanes to paragraph (j) of this AD, which contains a new action for those airplanes not affected by AD 2015-12-18. The airplanes identified by the commenter are already included in paragraph (h) of this AD, which contains a retained action from AD 2015-12-18. Adding those airplanes to paragraph (j) of this AD would result in redundant requirements for those airplanes. We have not changed this AD in this regard.

Request To Specify No Reporting

American Airlines requested that we do not require the reporting specified in Airbus Service Bulletin A320-35-1069, Revision 03, dated December 8, 2017. American Airlines stated that this action is not related to the unsafe condition.

We agree with the request. We have added paragraph (l) to this AD to specify no reporting is required. We have redesignated subsequent paragraphs of this AD accordingly.

Request To Remove Location for Accomplishing a Certain Action

American Airlines requested that we remove the location from the requirement to flush certain removed parts. American Airlines stated that Airbus Service Bulletin A320-35-1069, Revision 03, dated December 8, 2017, specifies doing that action in the shop. American Airlines stated that the location of performing that maintenance action is not relevant to correcting the unsafe condition.

We agree with the request for the reason provided by the commenter. We have added paragraph (m)(1) to this AD to specify that the location to flush certain parts is not required by this AD.

Request for Alternative Part Numbers

American Airlines requested that we include alternative parts for washer part number (P/N) AN960C816. American Airlines stated that Airbus Service Bulletin A320-35-1069, Revision 03, dated December 8, 2017, specifies to install the new crew oxygen pipe with P/N AN960C816, but that part number is obsolete. American Airlines stated that part number can be replaced with alternate P/N NAS1149C0863R, as specified in Illustrated Parts Catalog (IPC) 35-12-01-03, Item 110. American Airlines requested that we allow the installation of alternate parts as specified in the IPC.

We partially agree with the commenter. We disagree to allow installation of any alternative part specified in the IPC because the IPC is not FAA-approved data. However, we agree to allow the use of alternate P/N NAS1149C0863R. We have added paragraph (m)(2) to this AD to allow the use of that alternate part number.

Clarification of Requirements for Model A320-216 Airplanes

We stated the following in the NPRM: The Airbus SAS Model A320-216 was type certificated on December 19, 2016. Before that date, any EASA AD that affected Model A320-216 airplanes was included on the Required Airworthiness Action List (RAAL). Model A320-216 airplanes have subsequently been placed on the U.S. Register, and will now be included in FAA AD actions. For Airbus SAS Model A320-216 airplanes, the requirements that correspond to AD 2015-12-08 were mandated by the MCAI via the RAAL. Although that RAAL requirement is still in effect, for continuity and clarity we have identified Airbus SAS Model A320-216 airplanes in paragraph (c) of this AD; the restated requirements of paragraphs (g), (h), and (i) of this AD would therefore apply to those airplanes.

However, in paragraph (i) of the NPRM, we excluded Airbus SAS Model A320-216 airplanes. We also included those airplanes in the new requirements in paragraphs (j) and (k) of the NPRM.

We should not have excluded Airbus SAS Model A320-216 airplanes in paragraph (i) of the NPRM since the restated requirements of that paragraph still apply to those airplanes via the RAAL. Likewise, those airplanes should not have been included in the new requirements of paragraphs (j) and (k) of the NPRM because the requirements were already addressed by the restated requirements of paragraphs (g), (h), and (i) of the NPRM (which correspond to the actions required by the MCAI, EASA AD 2013-0278, via the RAAL). Therefore, we have removed references to Airbus SAS Model A320-216 airplanes from paragraphs (j) and (k) of this AD, and removed the text excluding Airbus SAS Model A320-216 from paragraph (i) of this AD.

Conclusion

We reviewed the relevant data, considered the comments received, and determined that air safety and the public interest require adopting this final rule with the changes described previously and minor editorial changes. We have determined that these minor changes:

• Are consistent with the intent that was proposed in the NPRM for addressing the unsafe condition; and

• Do not add any additional burden upon the public than was already proposed in the NPRM.

We also determined that these changes will not increase the economic burden on any operator or increase the scope of this final rule.

Related Service Information Under 1 CFR Part 51

Airbus has issued Service Bulletin A320-35-1069, Revision 03, dated December 8, 2017. The service information describes an inspection to determine the batch number or installation date of the oxygen pipe assembly that is installed at the end of the right-hand crew distribution line, and replacement of the pipe.

This AD also requires Airbus Service Bulletin A320-35-1069, dated April 26, 2013, which the Director of the Federal Register approved for incorporation by reference as of July 21, 2015 (80 FR 34262, June 16, 2015).

This service information is reasonably available because the interested parties have access to it through their normal course of business or by the means identified in the ADDRESSES section.

Costs of Compliance

We estimate that this AD affects 50 airplanes of U.S. registry. We estimate the following costs to comply with this AD:

Estimated Costs
Labor cost | Parts cost | Cost per product | Cost on U.S. operators
2 work-hours × $85 per hour = $170 | $0 | $170 | $8,500

We estimate the following costs to do any necessary replacements that would be required based on the results of the required inspection. We have no way of determining the number of aircraft that might need these replacements:

Estimated Costs of On-Condition Actions
Labor cost | Parts cost | Cost per product
5 work-hours × $85 per hour = $425 | $0 | $425

According to the manufacturer, some or all of the costs of this AD may be covered under warranty, thereby reducing the cost impact on affected individuals. We do not control warranty coverage for affected individuals. As a result, we have included all known costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2015-12-08, Amendment 39-18182 (80 FR 34262, June 16, 2015), and adding the following new AD:

2019-05-08 Airbus SAS: Amendment 39-19590; Docket No. FAA-2018-0806; Product Identifier 2018-NM-056-AD.

(a) Effective Date

This AD is effective April 16, 2019.

(b) Affected ADs

This AD replaces AD 2015-12-08, Amendment 39-18182 (80 FR 34262, June 16, 2015) (“AD 2015-12-08”).

(c) Applicability

This AD applies to the Airbus SAS airplanes identified in paragraphs (c)(1) through (c)(5) of this AD, certificated in any category.

(1) Model A318-111, -112, -121, and -122 airplanes, all manufacturer serial numbers.

(2) Model A319-111, -112, -113, -114, -115, -131, -132, and -133 airplanes, all manufacturer serial numbers.

(3) Model A320-211, -212, -214, -216, -231, -232, and -233 airplanes, all manufacturer serial numbers.

(4) Model A321-111, -112, -131, -211, -212, -213, -231, and -232 airplanes, all manufacturer serial numbers.

(5) Model A320-251N, A320-271N, and A321-271N airplanes, manufacturer serial numbers 6101, 6286, 6419, 6642, and 6673.

(d) Subject

Air Transport Association (ATA) of America Code 35, Oxygen.

(e) Reason

This AD was prompted by a report of corrosion found during the manufacturing process for some oxygen pipe assemblies that are used to supply oxygen to the flight crew. This AD was also prompted by further investigation that determined affected oxygen pipes may have been installed on more airplanes than initially identified. We are issuing this AD to address corrosion of the oxygen pipe assemblies, which could lead to blocked or reduced oxygen supply to a flight crew member in case of decompression or smoke/fire in the flight deck. In addition, the presence of particles in oxygen lines, under certain conditions, increases the risk of fire in the flight deck.

(f) Compliance

Comply with this AD within the compliance times specified, unless already done.

(g) Retained Inspection for Batch Numbers and Replacement, With New Service Information

This paragraph restates the requirements of paragraph (g) of AD 2015-12-08, with new service information. For airplanes identified in paragraph 1.A. of Airbus Service Bulletin A320-35-1069, dated April 26, 2013: Within 7,500 flight hours or 26 months, whichever occurs first after July 21, 2015 (the effective date of AD 2015-12-08), inspect the crew oxygen pipe, having part number (P/N) D3511032000640, to determine the batch number of that pipe, in accordance with the Accomplishment Instructions of Airbus Service Bulletin A320-35-1069, dated April 26, 2013; or Airbus Service Bulletin A320-35-1069, Revision 03, dated December 8, 2017. A review of airplane maintenance records is acceptable in lieu of this inspection if the batch number of the pipe can be conclusively determined from that review. If the batch number of the oxygen pipe is 19356252, 40008586, 40076689, 40187414, 40292749, 40405164, 40649383, 40724994, 40820410, or 40911832: Within 7,500 flight hours or 26 months, whichever occurs first after July 21, 2015, replace the oxygen pipe with a serviceable part, in accordance with the Accomplishment Instructions of Airbus Service Bulletin A320-35-1069, dated April 26, 2013; or Airbus Service Bulletin A320-35-1069, Revision 03, dated December 8, 2017. After the effective date of this AD, only Airbus Service Bulletin A320-35-1069, Revision 03, dated December 8, 2017, may be used to do the actions required by this paragraph.

(h) Retained Inspection for Part Number and Installation Date of Crew Oxygen Pipe, With No Changes

This paragraph restates the requirements of paragraph (h) of AD 2015-12-08, with no changes. For airplanes identified in paragraphs (c)(1) through (c)(4) of this AD that are not identified in paragraph 1.A. of Airbus Service Bulletin A320-35-1069, dated April 26, 2013: Within 7,500 flight hours or 26 months, whichever occurs first after July 21, 2015 (the effective date of AD 2015-12-08), inspect the crew oxygen pipe to determine whether P/N D3511032000640 was installed after June 2011. A review of airplane maintenance records is acceptable in lieu of this inspection if the part number and installation date of the pipe can be conclusively determined from that review. If the pipe was installed after June 2011, or the date cannot be conclusively determined, before further flight, do the actions required in paragraph (g) of this AD.

(i) Retained Parts Installation Prohibition, With No Changes

This paragraph restates the prohibition specified in paragraph (i) of AD 2015-12-08, with no changes. For airplanes identified in paragraphs (c)(1) through (c)(4) of this AD: As of July 21, 2015 (the effective date of AD 2015-12-08), do not install, on any airplane, a crew oxygen pipe P/N D3511032000640, that is identified as belonging to batch number 19356252, 40008586, 40076689, 40187414, 40292749, 40405164, 40649383, 40724994, 40820410, or 40911832.

(j) New Requirement of This AD: Inspection for Batch Numbers and Replacement for Certain Airplanes

For airplanes identified in paragraph (c)(5) of this AD: Within 7,500 flight hours or 26 months, whichever occurs first after the effective date of this AD, inspect the crew oxygen pipe, having P/N D3511032000640, to determine the batch number of that pipe, in accordance with the Accomplishment Instructions of Airbus Service Bulletin A320-35-1069, Revision 03, dated December 8, 2017. A review of airplane maintenance records is acceptable in lieu of this inspection if the batch number of the pipe can be conclusively determined from that review. If the batch number of the oxygen pipe is 19356252, 40008586, 40076689, 40187414, 40292749, 40405164, 40649383, 40724994, 40820410, or 40911832: Within 7,500 flight hours or 26 months, whichever occurs first after the effective date of this AD, replace the oxygen pipe with a serviceable part, in accordance with the Accomplishment Instructions of Airbus Service Bulletin A320-35-1069, Revision 03, dated December 8, 2017.

(k) New Parts Installation Prohibition for Certain Airplanes

For airplanes identified in paragraph (c)(5) of this AD: As of the effective date of this AD, do not install, on any airplane, a crew oxygen pipe P/N D3511032000640, that is identified as belonging to batch number 19356252, 40008586, 40076689, 40187414, 40292749, 40405164, 40649383, 40724994, 40820410, or 40911832.

(l) New No Reporting Requirement

Although Airbus Service Bulletin A320-35-1069, Revision 03, dated December 8, 2017, specifies to submit certain information to the manufacturer, and specifies that action as Required for Compliance (RC), this AD does not include that requirement.

(m) Service Information Exceptions

(1) Where Airbus Service Bulletin A320-35-1069, Revision 03, dated December 8, 2017, specifies the location to flush certain parts with nitrogen as “in the shop,” and specifies that location as RC, this AD does not require that location to be used when flushing the parts.

(2) Where Airbus Service Bulletin A320-35-1069, Revision 03, dated December 8, 2017, specifies to use part number (P/N) AN960C816, and specifies that part number as RC, this AD allows the use of P/N NAS1149C0863R in lieu of P/N AN960C816.

(n) Credit for Previous Actions

(1) For the airplanes identified in paragraph (g) of this AD: This paragraph provides credit for actions required by paragraph (g) of this AD, if those actions were performed before July 21, 2015 (the effective date of AD 2015-12-08) using a service bulletin identified in paragraph (n)(1)(i) or (n)(1)(ii) of this AD. This service information is not incorporated by reference in this AD.

(i) Airbus Service Bulletin A320-35-1069, Revision 01, dated March 24, 2014.

(ii) Airbus Service Bulletin A320-35-1069, Revision 02, dated October 26, 2016.

(2) For airplanes identified in paragraph (j) of this AD: This paragraph provides credit for actions required by paragraph (j) of this AD, if those actions were performed before the effective date of this AD using a service bulletin identified in paragraph (n)(2)(i), (n)(2)(ii), or (n)(2)(iii) of this AD.

(i) Airbus Service Bulletin A320-35-1069, dated April 26, 2013. This service information was incorporated by reference in AD 2015-12-08 and continues to be incorporated by reference in this AD.

(ii) Airbus Service Bulletin A320-35-1069, Revision 01, dated March 24, 2014. This service information is not incorporated by reference in this AD.

(iii) Airbus Service Bulletin A320-35-1069, Revision 02, dated October 26, 2016. This service information is not incorporated by reference in this AD.

(o) Other FAA AD Provisions

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (p)(2) of this AD. Information may be emailed to: 9-ANM-116-AMOC-REQUESTS@faa.gov. Before using any approved AMOC, notify your appropriate principal inspector, or lacking a principal inspector, the manager of the local flight standards district office/certificate holding district office.

(2) Contacting the Manufacturer: As of the effective date of this AD, for any requirement in this AD to obtain corrective actions from a manufacturer, the action must be accomplished using a method approved by the Manager, International Section, Transport Standards Branch, FAA; or the European Aviation Safety Agency (EASA); or Airbus SAS's EASA Design Organization Approval (DOA). If approved by the DOA, the approval must include the DOA-authorized signature.

(3) Required for Compliance (RC): Except as specified by paragraphs (l) and (m) of this AD: If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(p) Related Information

(1) Refer to Mandatory Continuing Airworthiness Information (MCAI) EASA AD 2018-0060R1, dated July 19, 2018, for related information. This MCAI may be found in the AD docket on the internet at http://www.regulations.gov by searching for and locating Docket No. FAA-2018-0806.

(2) For more information about this AD, contact Sanjay Ralhan, Aerospace Engineer, International Section, Transport Standards Branch, FAA, 2200 South 216th St., Des Moines, WA 98198; telephone and fax 206-231-3223.

(3) Service information identified in this AD that is not incorporated by reference is available at the addresses specified in paragraphs (q)(5) and (q)(6) of this AD.

(q) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on April 16, 2019.

(i) Airbus Service Bulletin A320-35-1069, Revision 03, dated December 8, 2017.

(ii) [Reserved]

(4) The following service information was approved for IBR on July 21, 2015 (80 FR 34262, June 16, 2015).

(i) Airbus Service Bulletin A320-35-1069, dated April 26, 2013.

(ii) [Reserved]

(5) For service information identified in this AD, contact Airbus SAS, Airworthiness Office—EAL, Rond-Point Emile Dewoitine No: 2, 31700 Blagnac Cedex, France; phone: +33 5 61 93 36 96; fax: +33 5 61 93 45 80; email: airworthiness.A330-A340@airbus.com; internet: http://www.airbus.com.

(6) You may view this service information at the FAA, Transport Standards Branch, 2200 South 216th St., Des Moines, WA. For information on the availability of this material at the FAA, call 206-231-3195.

(7) You may view this service information that is incorporated by reference at the National Archives and Records Administration (NARA). For information on the availability of this material at NARA, call 202-741-6030, or go to: http://www.archives.gov/federal-register/cfr/ibr-locations.html.

Issued in Des Moines, Washington, on March 5, 2019.
Michael Kaszycki,
Acting Director, System Oversight Division, Aircraft Certification Service.

[FR Doc. 2019-04479 Filed 3-11-19; 8:45 am]

BILLING CODE 4910-13-P